DEPARTMENT OF THE INTERIOR

National Park Service

Environmental Impact Statement, Notice of Intent

AGENCY: National Park Service, Interior.

ACTION: Notice of intent to prepare an environmental impact statement (EIS) and stream management plan for Herbert Hoover National Historic Site, West Branch, Iowa.

SUMMARY: Under the provisions of the National Environmental Policy Act of 1969 (42 U.S.C. 4321 et seq.), and regulations of the Council on Environmental quality (40 CFR 1506.6), the U.S. Department of the Interior, National Park Service (NPS) will prepare a draft stream management plan/environmental impact statement (EIS). The plan will be used to guide the management and rehabilitation of the stream located in Herbert Hoover National Historic Site (HEHO), West Branch, Iowa. The environmental impact statement will assess potential environmental impacts associated with various types of stream rehabilitation measures and restoration techniques on park resources such as water quality and hydrology, native plant communities, wildlife, cultural and historic resources, and public health and safety.

DATES: To determine the scope of issues to be addressed in the plan and EIS and to identify significant issues related to the management and rehabilitation of the stream in the NHS, the NPS will conduct a public scoping meeting in West Branch, Iowa. Representatives of the NPS and Parsons, the consulting firm assisting in the preparation of the EIS, will be available to discuss issues, resource concerns, and the planning process at the public meeting. When the public scoping meeting has been scheduled, its location, date, and time will be published in local newspapers.

ADDRESSES: Any comments or requests for information should be addressed to Superintendent, Herbert Hoover National Historic Site, Attn: Stream EIS, P.O. Box 607, West Branch, IA 52358. Comments may also be submitted at the following e-mail address: HEHO_Resource_Management@nps.gov.

FOR FURTHER INFORMATION CONTACT: Superintendent, Herbert Hoover National Historic Site, Stream EIS, P.O. Box 607, West Branch, IA 52358, E-mail: HEHO_Resource_Management@nps.gov.

SUPPLEMENTARY INFORMATION: Hoover Creek is a small tributary with a base flow of about 3 cubic feet per second (cfs). The creek is subject to flash flooding. Historic resources of the park lie within the 50-year floodplain and a few, including the Hoover Presidential Library and Museum, lie within the 25-year floodplain. Visitor service and park maintenance facilities and the primary access road into West Branch lie within the 10-year and 5-year floodplain.

Anecdotal flood history indicates that Hoover Creek has exceeded its banks 18 times in 11 years. Precipitation events have resulted in storm surges of 1500 cubic feet per second (1967 flood) and 1650 cubic feet per second (1993 flood). Bank full flow is estimated at 650 cubic feet per second and flow above that level causes flooding of visitor service areas and the historic core. Analysis of 1967 and 1993 data suggests that the 1967 flood was a 20-year flood event and the 1993 flood was a 30-year flood event. The 1993 flood was within inches of floor level in a few historic structures. Staff observations show that the stream is migrating toward the Herbert Hoover Presidential Library-Museum building. The bank of the creek is inherently unstable, with channel scouring causing the banks to slump as the toe of the bank erodes. Lateral cutting brings the stream closer to historic resources. The stream continues to entrench and poses a safety hazard to visitors with steep stream banks of 6 to 8 feet. The current instability of the stream threatens critical resources, contributes to sediment loads in the creek, and limits the creek's value as habitat for native plants and animals.

The principle goal of the stream management plan is to re-establish natural processes that are in equilibrium within the creek. This will lead to:

• Improvement of water retention that will reduce flooding.

• Dissipation of stream energy that will reduce erosion.

• Development of root masses that will stabilize banks.

• Development of diverse channel characteristics to provide habitat and support biodiversity.

We welcome all input into our planning process. Our practice is to make the public comments we receive in response to planning documents, including names and home addresses of respondents, available for public review during regular business hours. We will make all submissions from organizations or businesses, and from individuals identifying themselves as representatives or officials of organizations or businesses, available for public inspection in their entirety. Individual respondents may request that we withhold their names and addresses from the public record, and we will honor such requests to the extent allowed by law. If you wish to withhold your name and/or a address, you must state that request prominently at the beginning of your comment. The draft and final stream management plan/environmental impact statement will be made available to all known interested parties and appropriate agencies. Full public participation by Federal , State, and local agencies as well as other concerned organizations and private citizens is invited throughout the preparation process of this document.

Dated: May 10, 2004.
Ernest Quintana,
Regional Director, Midwest Region.

[FR Doc. 04-17589 Filed 8-2-04; 8:45 am]

BILLING CODE 4312-94-M